DEPARTMENT OF LABOR

Employment and Training Administration

[TA-W-65,661]

Zurn Industries; Erie, PA; Notice of Termination of Investigation

Pursuant to Section 221 of the Trade Act of 1974, as amended, an investigation was initiated on March 23, 2009 in response to a petition filed by the United Association of Plumbers and Pipefitters on behalf of workers of Zurn Industries, Erie, Pennsylvania.

The petitioner has requested that the petition be withdrawn. Consequently, the investigation has been terminated.

Signed at Washington, DC, this 2nd day of April 2009.
Richard Church,
Certifying Officer, Division of Trade Adjustment Assistance.

[FR Doc. E9-10392 Filed 5-5-09; 8:45 am]

BILLING CODE 4510-FN-P